DEPARTMENT OF THE TREASURY

Internal Revenue Service

Open Meeting of the Taxpayer Advocacy Panel Tax Forms and Publications Project Committee

AGENCY: Internal Revenue Service (IRS), Treasury.

ACTION: Notice of Meeting.

SUMMARY: An open meeting of the Taxpayer Advocacy Panel Tax Forms and Publications Project Committee will be conducted. The Taxpayer Advocacy Panel is soliciting public comments, ideas and suggestions on improving customer service at the Internal Revenue Service.

DATES: The meeting will be held Thursday, December 6, 2012 and Friday December 7, 2012.

FOR FURTHER INFORMATION CONTACT: Marisa Knispel at 1-888-912-1227 or 718-488-3557.

SUPPLEMENTARY INFORMATION: Notice is hereby given pursuant to section 10(a)(2) of the Federal Advisory Committee Act, 5 U.S.C. App. (1988) that an open meeting of the Taxpayer Advocacy Panel Tax Forms and Publications Project Committee will be held Thursday, December 6, 2012, from 8:00 a.m. until 4:30 p.m., and on Friday December 7, 2012 from 8:00 a.m. until 12:00 p.m. Eastern Time at the Bennett Federal Building, 400 West Bay Street, 3rd Floor, Room 310, Jacksonville, FL 32202. The public is invited to make oral comments or submit written statements for consideration. Due to limited time and structure of meeting, notification of intent to participate must be made with Ms. Knispel. For more information please contact Ms. Knispel at 1-888-912-1227 or 718-488-3557, or write TAP Office, 10 MetroTech Center, 625 Fulton Street, Brooklyn, NY 11201, or post comments to the Web site: http://www.improveirs.org.

The agenda will include various IRS issues.

Dated: November 6, 2012.
Otis Simpson,
Acting Director, Taxpayer Advocacy Panel.

[FR Doc. 2012-27477 Filed 11-9-12; 8:45 am]

BILLING CODE 4830-01-P